DEPARTMENT OF TRANSPORTATION

Federal Aviation Administration

14 CFR Part 71

[Docket No. FAA-2006-24878; Airspace Docket No. 06-AWP-4]

RIN 2120-AA66

Proposed Revision of Class E Airspace; Mountain Home, ID

AGENCY Federal Aviation Administration (FAA), DOT.

ACTION: Notice of proposed rulemaking.

SUMMARY: This action proposes to revise Class E airspace at Mountain Home, ID, beginning at 1,200 feet above ground level (AGL), replacing the existing Class G uncontrolled airspace. This airspace action will accommodate the terminal environment transition between Salt Lake Air Route Traffic Control Center (ARTCC) and Mountain Home AFB Radar Approach Control (RAPCON) by placing aircraft in controlled airspace during the transfer of aircraft radar identification between the facilities. In addition, a review of the legal description revealed that it does not reflect the correct airport reference point (ARP) of Mountain Home Municipal Airport and geographic position of the Sturgeon Non-Directional Beacon (NDB). This action will correct those minor discrepancies.

DATES: Comments must be received on or before October 5, 2006.

ADDRESSES: Send comments on this proposal to the Docket Management System, U.S. Department of Transportation, Room Plaza 401, 400 Seventh Street, SW., Washington, DC 20590-0001. You must identify the docket number FAA-2006-24878; Airspace Docket No. 06-AWP-4, at the beginning of your comments. You may also submit comments on the Internet at http://dms.dot.gov.

FOR FURTHER INFORMATION CONTACT: Francie Hope, Airspace Specialist, Western Terminal Service Area, Federal Aviation Administration, 15000 Aviation Boulevard, Lawndale, California 90261; telephone (310) 725-6502.

SUPPLEMENTARY INFORMATION:

Comments Invited

Interested parties are invited to participate in this proposed rulemaking by submitting such written data, views or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2006-24878 and Airspace Docket No. 06-AWP-4) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2006-24878 and Airspace Docket No. 06-AWP-4.” The postcard will be date/time stamped and returned to the commenter.

All communications received on or before the specified closing date for comments will be considered before taking action on the proposed rule. The proposal contained in this action may be changed in light of the comment received. All comments submitted will be available for examination in the public docket both before and after the closing date for comments. A report summarizing each substantive public contact with FAA personnel concerned with this rulemaking will be filed in the docket.

Availability of NPRMs

An electronic copy of this document may be downloaded through the Internet at http://dms.dot.gov. Recently published rulemaking documents can also be accessed through the FAA's Web page at http://www.faa.gov, or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Western Terminal Service Area, Federal Aviation Administration, 15000 Aviation Boulevard, Lawndale, California 90261.

Persons interested in being placed on a mailing list for future NPRM's should contact the FAA's Office of Rulemaking, (202) 267-9677, a copy of Advisory Circular No. 11-2A, Notice of Proposed Rulemaking Distribution System, which describes the application procedure.

Background

Mountain Home AFB RAPCON works daily with Salt Lake ARTCC, transferring traffic between the facilities' airspace areas. The RAPCON's airspace has been charted into the ARTCC mapping file structure and extended to join with the Owyhee MOA boundary to the southwest of Mountain Home AFB. This wedge of airspace is outside the current 40 DME arc from the Mountain Home TACAN which accommodated the former approach control boundary to the southwest. The 46 DME arc brings that wedge into Class E airspace and is a fluid transition from adjoining Class E airspace along V113 to the southwest and around to V253 to the southeast, incorporating the northern portion of the Jarbridge MOA, accommodating the terminal environment transition and making control procedures more operationally efficient.

The Proposal

The FAA is proposing an amendment to Title 14 Code of Federal Regulations (14 CFR) part 71 to revise the Class E airspace area with a base altitude of 1,200 feet AGL in the vicinity of Mountain Home AFB, ID. Class E airspace is used to transition to and from the terminal or enroute environment, allowing a buffer for arriving and departing IFR aircraft from uncontrolled to controlled airspace. A review of the airspace in southern Idaho revealed a large area of uncontrolled (Glass G) airspace immediately adjacent to the (controlled) Class E airspace currently utilized by Mountain Home AFB RAPCON. Because this airspace is Class G below 14,500 feet mean sea level (MSL), Mountain Home AFB RAPCON does not have the authority to initiate IFR (Instrument Flight Rules) control instructions and vector aircraft transferred to them from Salt Lake ARTCC. IFR operations can take place in Class G, but the ability of the approach control to provide vectors, as an example, should not happen until within the confines of the approach control delegated airspace. The 46 DME arc provides for this buffer where transition from Class G to E can take place (arrival or departure), and allows the approach control in question to provide that vector within Class E. The Mountain Home AFB RAPCON airspace extends only to the 40 DME arc, and therefore, has no safe buffer currently established.

The proposed airspace revision incorporates into Class E airspace that portion of Mountain Home AFB RAPCON delegated airspace that was extended to join with the Owyhee MOA boundary to the Southwest of Mountain Home AFB. This wedge of airspace is outside the current 40 DME arc from the Mountain Home TACAN, which accommodated the former approach control boundary to the southwest.

In addition, the 6500 feet MSL Class E airspace to the southeast within the Jarbridge Military Operations Area (MOA) will be incorporated into this 1200 foot AGL Class E airspace. Neither Mountain Home AFB RAPCON nor Salt Lake ARTCC utilize this airspace at 6500 feet MSL, and containing it at 1200 feet AGL will allow Mountain Home AFB RAPCON to vector aircraft to Jarbridge MOA at lower altitudes.

Class E enroute domestic airspace areas are published in Paragraph 6005 of FAA Order 7400.9N dated September 1, 2005, and effective September 15, 2005, which is incorporated by reference in 14 CFR 71.1. The Class E airspace designation listed in this document would be published subsequently in this Order.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., 389.

§ 71.1 [Amended]

2. The incorporation by reference in 14 CFR 71.1 of Federal Aviation Administration Order 7400.9N, Airspace Designations and Reporting Points, dated September 1, 2005, and effective September 15, 2005, is amended as follows:

Paragraph 6005 Class E Airspace Areas Extending Upward from 700 Feet or More Above the Surface of the Earth.

* * * * *

ANM ID E5 Mountain Home, ID [Revised]

Mountain Home AFB, ID

(Lat. 43°02′37″ N., long. 115°52′21″ W.)

Mountain Home TACAN

(Lat. 43°02′26″ N., long. 115°52′28″ W.)

Mountain Home Municipal Airport

(Lat. 43°07′53″ N., long. 115°43′47″ W.)

Sturgeon NDB

(Lat. 43°06′48″ N., long. 115°39′31″ W.)

That airspace extending upward from 700 feet above the surface within 8.7 miles northeast and 7.9 miles southwest of the Mountain Home AFB Tacan 135° and 315° radials extending from 15.7 miles southeast to 15.7 miles northwest of the TACAN, and within a 7.4-mile radius of the Mountain Home Municipal Airport, thence extending east of the radius 3.1 miles each side of the Sturgeon NDB 112° bearing to 7.4 miles east of Sturgeon NDB; that airspace extending upward from 1,200 feet above the surface bounded on the northeast by the southwest edge of V-253; to long. 115° 00′11″ W.; south to lat. 42°24′00″ N.; east to lat. 42°24′08″ N., long. 115°18′09″ W.; thence on the southeast, south, and west by a 46.0-mile radius of Mountain Home AFB; on the west by the southeast edge of V-113; northeast to the southwest edge of V-253.

* * * * *

Issued in Los Angeles, California, on August 7, 2006.
Leonard A. Mobley,
Acting Director, Western Terminal Operations.

[FR Doc. 06-7063 Filed 8-18-06; 8:45 am]

BILLING CODE 4910-13-M